DEPARTMENT OF ENERGY

Notice of Orders Issued Under Section 3 of the Natural Gas Act During February 2020

AGENCY: Office of Fossil Energy, Department of Energy.

ACTION: Notice of orders.

| FE Docket Nos.
TEXAS LNG BROWNSVILLE LLC | 15-62-LNG
CORPUS CHRISTI LIQUEFACTION STAGE III, LLC | 18-78-LNG
ANNOVA LNG COMMON INFRASTRUCTURE, LLC | 19-34-LNG
RIO GRANDE LNG, LLC | 15-190-LNG
SPRAGUE OPERATING RESOURCES | 20-05-NG; 19-132-NG
NFENERGÍA LLC | 20-07-NG
PHILLIPS 66 COMPANY | 20-10-NG
WHITE EAGLE TRADING, LLC | 20-11-NG
NJR ENERGY SERVICES COMPANY | 20-13-NG
CENTRAL VALLE HERMOSO, S.A. DE C.V | 20-06-NG
EXCELERATE ENERGY L.P | 20-09-LNG
CONSTELLATION LNG, LLC | 20-12-LNG
DOMINION ENERGY COVE POINT LNG, LP | 19-156-LNG

SUMMARY: The Office of Fossil Energy (FE) of the Department of Energy gives notice that during February 2020, it issued orders granting authority to import and export natural gas, to import and export liquefied natural gas (LNG), and to vacate prior authorization. These orders are summarized in the attached appendix and may be found on the FE website at https://www.energy.gov/fe/listing-doefe-authorizationsorders-issued-2020. They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on March 23, 2020.
Amy Sweeney,
Director, Office of Regulation, Analysis, and Engagement, Office of Oil and Natural Gas.

Appendix

DOE/FE Orders Granting Import/Export Authorizations
4489 | 02/10/20 | 15-62-LNG | Texas LNG Brownsville LLC | Opinion and Order 4489 granting long-term authority to export LNG to Non-Free Trade Agreement Nations.
4490 | 02/10/20 | 18-78-LNG | Corpus Christi Liquefaction Stage III, LLC | Opinion and Order 4490 granting long-term authority to export LNG to Non-Free Trade Agreement Nations.
4491 | 02/10/20 | 19-34-LNG | Annova LNG Common Infrastructure, LLC | Opinion and Order 4491 granting long-term authority to export LNG to Non-Free Trade Agreement Nations.
4492 | 02/10/20 | 15-190-LNG | Rio Grande LNG, LLC | Opinion and Order 4492 granting long-term authority to export LNG to Non-Free Trade Agreement Nations.
4499; 4466-A | 02/13/20 | 20-05-NG; 19-23-NG | Sprague Operating Resources LLC | Order 4499 granting blanket authority to import natural gas from Canada, and vacating prior authorization (Order 4466-A).
4500 | 02/13/20 | 20-07-NG | NFEnergía LLC | Order 4500 granting blanket authority to import LNG from various international sources by vessel.
4501 | 02/13/20 | 20-10-NG | Phillips 66 Company | Order 4501 granting blanket authority to import natural gas from Canada.
4502 | 02/13/20 | 20-11-NG | White Eagle Trading, LLC | Order 4502 granting blanket authority to import/export natural gas from/to Mexico.
4503 | 02/13/20 | 20-13-NG | NJR Energy Services Company | Order 4503 granting blanket authority to import/export natural gas from/to Canada.
4504 | 02/13/20 | 20-06-NG | Central Valle Hermoso, S.A. de C.V | Order 4504 granting blanket authority to import/export natural gas from/to Mexico.
4505 | 02/13/20 | 20-09-LNG | Excelerate Energy L.P | Order 4505 granting blanket authority to import LNG from various international sources by vessel.
4506 | 02/13/20 | 20-12-LNG | Constellation LNG, LLC | Order 4506 granting blanket authority to import LNG from various international sources by vessel, and to export LNG to Canada by vessel.
4508 | 02/28/20 | 19-156-LNG | Dominion Energy Cove Point, LP | Order 4508 granting blanket authority to export LNG to Free Trade and Non-Free Trade Agreement Nations.

[FR Doc. 2020-06511 Filed 3-27-20; 8:45 am]

BILLING CODE 6450-01-P